NATIONAL CREDIT UNION ADMINISTRATION

Sunshine Act Meeting

TIME AND DATE: 10:00 a.m., Thursday, March 19, 2020.

PLACE: Board Room, 7th Floor, Room 7047, 1775 Duke Street, Alexandria, VA 22314-3428.

STATUS: This meeting will be closed to the public.

MATTERS TO BE CONSIDERED:

1. Supervisory Matter. Closed pursuant to Exemptions (4), and (8).

2. Personnel Matter. Closed pursuant to Exemptions (2), and (6).

CONTACT PERSON FOR MORE INFORMATION: Gerard Poliquin, Secretary of the Board, Telephone: 703-518-6304.

Gerard Poliquin,
Secretary of the Board.

[FR Doc. 2020-05539 Filed 3-12-20; 4:15 pm]

BILLING CODE 7535-01-P